FEDERAL COMMUNICATIONS COMMISSION

47 CFR Part 73

[MB Docket No. 21-54; RM-11879; DA 21-702; FR ID 34796]

Television Broadcasting Services Peoria and Oswego, Illinois

AGENCY: Federal Communications Commission.

ACTION: Final rule.

SUMMARY: On April 14, 2021, the Media Bureau, Video Division (Bureau) issued a Notice of Proposed Rulemaking (NPRM) in response to a petition for rulemaking filed by Four Seasons Peoria, LLC (Petitioner), requesting an amendment of the DTV Table of Allotments to delete channel 10 at Peoria, Illinois, substitute channel 10 at Oswego, Illinois, and modify the WAOE license to specify Oswego as its community of license. For the reasons set forth in the Report and Order referenced below, channel 10 is deleted from Peoria, Illinois, and allotted to Oswego, Illinois. Further, WAOE's community of license is modified to Oswego, Illinois.

DATES: Effective July 2, 2021.

FOR FURTHER INFORMATION CONTACT: Andrew Manley, Media Bureau, at (202) 418-0596 or Andrew.Manley@fcc.gov.

SUPPLEMENTARY INFORMATION: The proposed rule was published at 86 FR 18934 on April 12, 2021. The Petitioner filed comments in support of the petition. No other comments were filed. We believe the public interest would be served by allotting channel 10 at Oswego, Illinois. Oswego (pop. 34,383) is the largest community in Kendall County, Illinois, and clearly qualifies for community of license status for allotment purposes. In addition, the proposal would result in a first local service to Oswego. Moreover, the allotment is consistent with the minimum geographic spacing requirements for new DTV allotments in the Commission's rules, and the allotment point complies with the rules as the entire community of Oswego is encompassed by the 43 dBμ contour. Finally, since the Petitioner does not propose any changes in WAOE's authorized facilities, the authorized and proposed facilities are mutually exclusive.

This is a synopsis of the Commission's Report and Order, MB Docket No. 21-54; RM-11879; DA 21-702, adopted June 16, 2021, and released June 16, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments, under Illinois, by adding an entry in alphabetical order for “Oswego” and revising the entry for “Peoria” to read as follows:

§ 73.622 Digital television table of allotments.

* * * * *

(i) * * *

Community | Channel No.
* * * * *
ILLINOIS
* * * * *
Oswego | 10.
Peoria | 19, 25, 30, * 46.
* * * * *

[FR Doc. 2021-14207 Filed 7-1-21; 8:45 am]

BILLING CODE 6712-01-P